DEPARTMENT OF TRANSPORTATION

Federal Highway Administration

Draft Environmental Impact Statement/Environmental Impact Report; Mid-County Parkway, Riverside County, CA

ACTION: Notice of extension of comment period.

SUMMARY: The Federal Highway Administration is extending the review and comment period for the Mid-County Parkway (MCP) Draft Environmental Impact Report/Environmental Impact Statement (EIR/EIS) for an additional 30 days. Comments on the Draft EIR/EIS may now be submitted until January 8, 2009. The MCP is a proposed 32-mile roadway on new and existing alignment between State Route 79 and Interstate 15 in western Riverside County. A Notice of Availability was previously published in the Federal Register Volume 73, No. 199 on Tuesday, October 14, 2008 (FR Doc. ES-23805 Filed 10-10-08; 8:45 a.m.). The Notice of Availability includes supplemental information describing the project and the alternatives.

DATES: Comments will now be accepted until January 8, 2009.

ADDRESSES: Comments on the MCP Draft EIR/EIS can be mailed to the following addresses: Ms. Cathy Bechtel at Riverside County Transportation Commission, 4080 Lemon Street, 3rd Floor, Riverside, CA 92502 and/or Mr. Tay Dam, Federal Highway Administration, 650 Capitol Mall, Suite 4-100, Sacramento, CA 95814, or via e-mail at: http://midcountyparkway.org.

The Draft EIR/EIS and technical studies are available for viewing at the following locations during regular business hours: (1) RCTC, 4080 Lemon Street—3rd Floor, Riverside, CA 92502; (2) FHWA, 650 Capitol Mall, Suite 4-100, Sacramento, CA 95814; (3) Caltrans District 8 Office—6th Floor, 464 W. 4th St., San Bernardino, CA 92401; (4) City of Corona—Public Works Department, 400 South Vicentia Avenue, 2nd Floor—Suite 210, Corona, CA 92882; (5) Corona Public Library, 650 S. Main St., Corona, CA 92882; (6) Perris Public Library, 163 E. San Jacinto Ave., Perris, CA 92507; (7) San Jacinto Public Library, 500 Idyllwild Dr., San Jacinto, CA 92583; (8) Woodcrest Library, 16625 Krameria, Riverside, CA 92504; (9) Hemet Library, 300 E. Latham Avenue, Hemet, CA 92543; and (10) Moreno Valley Public Library, 25480 Alessandro Blvd., Moreno Valley, CA 92553. You may also view and comment on the Draft EIR/EIS at http://www.midcountyparkway.org.

(Catalog of Federal Domestic Assistance Program Number 20.205, Highway Planning and Construction. The regulations implementing Executive Order 12372 regarding intergovernmental consultation on Federal programs and activities apply to this program.)

FOR FURTHER INFORMATION CONTACT: Ms. Cathy Bechtel at RCTC: (951) 787-7141, or Mr. Tay Dam at FHWA: (213) 605-2013.

Dated: November 21, 2008.
Cindy Vigue,
Director of State Programs, Major Projects Program Manager, Federal Highway Administration, 650 Capitol Mall, Suite 4-100, Sacramento, CA 95814.

[FR Doc. E8-28429 Filed 11-28-08; 8:45 am]

BILLING CODE 4910-22-P